DEPARTMENT OF HOMELAND SECURITY

Federal Emergency Management Agency

[Docket ID: FEMA-2021-0009; OMB No. 1660-0054]

Agency Information Collection Activities: Proposed Collection; Comment Request; Assistance to Firefighters Grant Program and Fire Prevention and Safety Grants-Grant Application Supplemental Information

AGENCY: Federal Emergency Management Agency, Department of Homeland Security.

ACTION: 60-Day Notice of Revision and request for comments.

SUMMARY: The Federal Emergency Management Agency (FEMA), as part of its continuing effort to reduce paperwork and respondent burden, invites the general public to take this opportunity to comment on a currently approved collection with revisions. In accordance with the Paperwork Reduction Act of 1995, this notice seeks comments concerning the applications for the Assistance to Firefighters Grant (AFG) program, the Fire Prevention and Safety (FP&S) Grants program, the Staffing for Adequate Fire and Emergency Response (SAFER) Grants program, and the Assistance to Firefighters Grant Program—COVID-19 Supplemental (AFG-S). These programs focus on enhancing the safety of the public and firefighters with respect to fire and fire-related hazards.

DATES: Comments must be submitted on or before May 11, 2021.

ADDRESSES: Submit comments at www.regulations.gov under Docket ID FEMA-2021-0009. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: William Dunham, Fire Program Specialist, FEMA, Grant Programs Directorate, 202-786-9813. You may contact the Information Management Division for copies of the proposed collection of information at email address: FEMA-Information-Collections-Management@fema.dhs.gov.

SUPPLEMENTARY INFORMATION: The authority for these grant programs are derived from the Coronavirus Aid, Relief, and Economic Security (CARES) Act, Div. B (Pub. L. 116-136); and Sections 33 and 34 of the Federal Fire Prevention and Control Act of 1974, Public Law 93-498, as amended (15 U.S.C. §§ 2229, 2229a). The information collected is grant application information that is necessary to assess the needs of the applicants as well as the benefits to be obtained from the use of funds. The information collected through the program's application is the minimum necessary to evaluate grant applications and is necessary for FEMA to comply with mandates delineated in the law.

Collection of Information

Title: Assistance to Firefighters Grant Program and Fire Prevention and Safety Grants-Grant Application Supplemental Information.

Type of Information Collection: Revision of a currently approved information collection.

OMB Number: 1660-0054.

FEMA Forms: FEMA Form 080-0-2; FEMA Form 080-0-3; FEMA Form 080-0-0-13; FEMA Form 080-0-0-16; FEMA Form 080-0-4; FEMA Form 087-0-0-2.

Abstract: FEMA uses this information to ensure that FEMA's responsibilities under the legislation can be fulfilled accurately and efficiently. The information will be used to objectively evaluate each of the anticipated applicants to determine which of the applicants' proposals in each of the activities are the closest to the established program priorities.

Affected Public: State, Local or Tribal Government; Not-for-Profit Institutions.

Estimated Number of Respondents: 20,608.

Estimated Number of Responses: 24,088.

Estimated Total Annual Burden Hours: 191,501.5.

Estimated Total Annual Respondent Cost: $12,069,921.

Estimated Respondents' Operation and Maintenance Costs: There are no maintenance costs associated with this information collection.

Estimated Respondents' Capital and Start-Up Costs: There are no record keeping, capital, start-up costs associated with this information collection.

Estimated Total Annual Cost to the Federal Government: The cost to the Federal Government is $423,597.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-05181 Filed 3-11-21; 8:45 am]

BILLING CODE 9111-64-P